FEDERAL COMMUNICATIONS COMMISSION

47 CFR Part 73

[DA 00-248; MM Docket No. 99-164; RM-9598; MM Docket No. 99-165; RM-9599; MM Docket No. 99-166, RM-9600]

Radio Broadcasting Services; Mitchell, NE, Lovelock, NV, Elko, NV

AGENCY: Federal Communications Commission.

ACTION: Final rule.

SUMMARY: The Commission at the request of Mountain West Broadcasting, allots Channel 257A to Mitchell, NE, as the community's first local aural service; at the request of Mountain West Broadcasting and Lovelock Broadcasting Company, allots Channel 292C1 to Lovelock, NV, as the community's first local aural service; and at the request of Mountain West Broadcasting and Elko Broadcasting Company, allots Channel 248C1 to Elko, NV, as the community's fifth local aural service. See 64 FR 28426, May 26, 1999. Channel 257A can be allotted to Mitchell, NE, without the imposition of a site restriction, at coordinates 41-56-36 NL; 103-48-30 WL. Channel 292C1 can be allotted to Lovelock, NV, without the imposition of a site restriction, at coordinates 40-10-48 NL; 118-28-24 WL. Channel 248C1 can be allotted to Elko, NV, without the imposition of a site restriction, at coordinates 40-49-48 NL; 115-45-36 WL. A filing window for these channels will not be opened at this time. Instead, the issue of opening a filing window for this channel will be addressed by the Commission in a subsequent order.

DATES: Effective March 27, 2000.

FOR FURTHER INFORMATION CONTACT: Leslie K. Shapiro, Mass Media Bureau, (202) 418-2180.

SUPPLEMENTARY INFORMATION: This is a synopsis of the Commission's Report and Order, MM Docket Nos. 99-164, 99-165 and 99-166, adopted February 2, 2000, and released February 11, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Nebraska, is amended by adding Mitchell, Channel 257A.

3. Section 73.202(b), the Table of FM Allotments under Nevada, is amended by adding Channel 248C1 at Elko and adding Lovelock, Channel 292C1.

Federal Communications Commission.
John A. Karousos,
Chief, Allocations Branch, Policy and Rules Division, Mass Media Bureau.

[FR Doc. 00-4171 Filed 2-22-00; 8:45 am]

BILLING CODE 6712-01-P